DEPARTMENT OF THE TREASURY

Office of Foreign Assets Control

Actions Taken Pursuant to Executive Order 13382

AGENCY: Office of Foreign Assets Control, TD.

ACTION: Notice.

SUMMARY: The Treasury Department's Office of Foreign Assets Control (“OFAC”) is unblocking and removing three entities from OFAC's list of Specially Designated Nationals and Blocked Persons (“SDN List”), whose property and interests in property were blocked pursuant to Executive Order 13382 of June 28, 2005, “Blocking Property of Weapons of Mass Destruction Proliferators and Their Supporters.” OFAC is also announcing the unblocking and removal from the SDN List of seven vessels, which were property blocked pursuant to Executive Order 13382 of June 28, 2005.

DATES: The removals by the Director of OFAC, pursuant to Executive Order 13382, were effective on July 12, 2012.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On July 12, 2012, the Director of OFAC removed and unblocked three entities from the SDN List whose property and interests in property were blocked pursuant to Executive Order 13382. On the same date, the Director of OFAC removed and unblocked seven vessels from the SDN List, which were property blocked pursuant to Executive Order 13382.

The list of removed entities and vessels is as follows:

Entities

1. OASIS FREIGHT AGENCIES (a.k.a. OASIS FREIGHT AGENCY LLC), Sharaf Building, No. 4, 2nd Floor, Al Meena Road, Opposite Customs, Dubai, United Arab Emirates; Sharaf Building, 1st Floor, Al Mankhool St., Bur Dubai, P.O. Box 5562, Dubai, United Arab Emirates; Kayed Ahli Building, Jamal Abdul Nasser Road (Parallel to Al Wahda St.), P.O. Box Box 4840, Sharjah, United Arab Emirates [NPWMD].

2. GREAT OCEAN SHIPPING SERVICES (L.L.C.), 2nd Floor, Sharaf Building, Al Mina Road, Bur Dubai, Dubai, United Arab Emirates; Business Registration Document #606318 (United Arab Emirates) issued 5 Feb 2008; Email Address info@oceanshg.com; Web site www.oceanshg.com; Telephone: 97143525000; Fax: 97143518008 [NPWMD].

3. PEARL SHIP MANAGEMENT L.L.C., Dubai, United Arab Emirates; Email Address technical@pearlsmc.com; Telephone: 97143525333; Fax: 97143518008 [NPWMD].

Vessels

1. DESPINA (a.k.a. IRAN KOLAHDOOZ) General Cargo, 17,982DWT 13,914GRT Iran flag (IRISL); Vessel Registration Identification IMO 7428809 (vessel) [NPWMD].

2. GOMIDAS (a.k.a. IRAN ESTEGHLAL) Bulk Carrier 35,839DWT 20,811GRT Iran flag (IRISL); Vessel Registration Identification IMO 7620550 (vessel) [NPWMD].

3. HOOTAN (a.k.a. IRAN SEPAH) Bulk Carrier 33,856DWT 20,361GRT Iran flag (IRISL); Vessel Registration Identification IMO 7375363 (vessel) [NPWMD].

4. IRAN BEHESHTI Unknown vessel type 38,411DWT 21,999GRT IRAN flag (IRISL); Vessel Registration Identification IMO 7389792 (Iran) (vessel) [NPWMD].

5. IRAN SARBAZ Bulk Carrier 34,859DWT 20,576GRT Iran flag (IRISL); Vessel Registration Identification IMO 8113011 (vessel) [NPWMD].

6. MARKARID (a.k.a. IRAN DEYANAT) Bulk Carrier 43,150DWT 25,168GRT Iran flag (IRISL); Vessel Registration Identification IMO 8107579 (vessel) [NPWMD].

7. TABAK (a.k.a. IRAN AMANAT) Bulk Carrier 34,859DWT 20,576GRT Iran flag (IRISL); Vessel Registration Identification IMO 8112990 (vessel) [NPWMD].

Dated: July 11, 2012.
Adam J. Szubin,
Director, Office of Foreign Assets Control.

[FR Doc. 2012-18823 Filed 8-6-12; 8:45 am]

BILLING CODE 4810-AL-P